DEPARTMENT OF ENERGY

Federal Energy Regulatory Commission

[Project No. 7274-035]

Town of Wells, New York; Notice Soliciting Scoping Comments

Take notice that the following hydroelectric application has been filed with the Commission and is available for public inspection.

a. Type of Application: Subsequent Minor License.

b. Project No.: 7274-035.

c. Date Filed: July 31, 2023.

d. Applicant: Town of Wells, New York (Town of Wells).

e. Name of Project: Lake Algonquin Hydroelectric Project.

f. Location: On the Sacandaga River in the Town of Wells, Hamilton County, New York.

g. Filed Pursuant to: Federal Power Act 16 U.S.C. 791(a)-825(r).

h. Applicant Contacts: Matthew Taylor, Principle-in-Charge, GZA GeoEnvironmental of New York, 104 West 29th Street, 10th Floor, New York 10001; Phone at (781) 278-5803 or email at matthew.taylor@gza.com; or Beth Hunt, Supervisor, Town of Wells, P.O. Box 205, Wells, New York 12190; Phone at (518) 924-7912 or email at beth-hunt@townofwells.org.

i. FERC Contact: Samantha Pollak at (202) 502-6419, or samantha.pollak@ferc.gov.

j. Deadline for Filing Scoping Comments: on or before 5:00 p.m. Eastern Time on June 15, 2025.¹

¹ The Commission's Rules of Practice and Procedure provide that if a deadline falls on a Saturday, Sunday, holiday, or other day when the Commission is closed for business, the deadline does not end until the close of business on the next business day. 18 CFR 385.2007(a)(2). Because the 60-day filing deadline falls on Sunday (i.e., June 15, 2025), the filing deadline is extended until on or before 5:00 p.m. Eastern Time on Monday, June 16, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lake Algonquin Hydroelectric Project (P-7274-035).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The Lake Algonquin Hydroelectric Project consists of the following facilities: (1) a 239-foot-long, 26.5-foot-high concrete gravity dam composed of an ogee spillway section at each end and a gated spillway section in the middle with three steel 19-foot-wide by 12-foot-high vertical lift roller gates; (2) an impoundment with a surface area of 275 acres and a storage capacity of 2,557 acre-feet at an elevation of 986.84 feet National Geodetic Vertical Datum of 1929; (3) two dikes/low points along the reservoir rim; (4) a 27-foot-high, 21-foot-wide, 52-foot-long intake structure; (5) a buried 10-foot-diameter, 113-foot-long steel penstock; (6) a 25-foot-wide, 63-foot-long concrete, steel, and masonry powerhouse containing one turbine-generator unit with a rated capacity of 698 kilowatts; (7) a 480-volt, 65-foot-long generator lead; (8) a 480-volt/4.8-kilovolt (kV) step-up transformer; (9) a 4.8-kV, approximately 50-foot-long overhead transmission line; and (10) appurtenant facilities.

A continuous minimum flow of 20 cubic feet per second or inflow, whichever is less, is passed into the bypassed reach through a minimum flow pipe in the spillway. All flows greater than turbine capacity pass over the spillway and/or through the dam gates. Project operation ceases when inflow falls below the minimum hydraulic capacity, and all flow is passed over the dam into the bypassed reach. The average annual generation is estimated to be 1,363 megawatt-hours.

m. A copy of the application is available for review on the Commission's website at http://www.ferc.gov, using the “eLibrary” link. Enter the project's docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202)502-6595 or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued May 16, 2025.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 16, 2025.
Debbie-Anne A. Reese,
Secretary.

[FR Doc. 2025-09244 Filed 5-21-25; 8:45 am]

BILLING CODE 6717-01-P